DEPARTMENT OF TRANSPORTATION

Federal Aviation Administration

14 CFR Part 39

[Docket No. FAA-2024-0033; Project Identifier MCAI-2023-01206-T; Amendment 39-22661; AD 2024-01-10]

RIN 2120-AA64

Airworthiness Directives; Airbus SAS Airplanes

AGENCY: Federal Aviation Administration (FAA), DOT.

ACTION: Final rule; request for comments.

SUMMARY: The FAA is adopting a new airworthiness directive (AD) for all Airbus SAS Model A330-200, A330-200 Freighter, A330-300, A330-800, A330-900, A340-500, and A340-600 series airplanes. This AD was prompted by a report of temporary loss of the flight director (FD) and autothrottle (A/THR) on an airplane dispatched under the provisions of a master minimum equipment list (MMEL) item for fuel quantity indication (FQI). This AD requires revising the operator's existing FAA-approved minimum equipment list (MEL), as specified in a European Union Aviation Safety Agency (EASA) AD, which is incorporated by reference. The FAA is issuing this AD to address the unsafe condition on these products.

DATES: This AD is effective February 6, 2024.

The Director of the Federal Register approved the incorporation by reference of a certain publication listed in this AD as of February 6, 2024.

The FAA must receive comments on this AD by March 7, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0033; or in person at Docket Operations between 9 a.m. and 5 p.m., Monday through Friday, except Federal holidays. The AD docket contains this final rule, the mandatory continuing airworthiness information (MCAI), any comments received, and other information. The street address for Docket Operations is listed above.

Material Incorporated by Reference:

• For material incorporated by reference in this AD, contact EASA, Konrad-Adenauer-Ufer 3, 50668 Cologne, Germany; phone +49 221 8999 000; email ADs@easa.europa.eu; website easa.europa.eu. You may find this material on the EASA website at ad.easa.europa.eu.

• You may view this service information at the FAA, Airworthiness Products Section, Operational Safety Branch, 2200 South 216th St., Des Moines, WA. For information on the availability of this material at the FAA, call 206-231-3195. It is also available at regulations.gov under Docket No. FAA-2024-0033.

FOR FURTHER INFORMATION CONTACT: Vladimir A. Ulyanov, Aviation Safety Engineer, FAA, 1600 Stewart Avenue, Suite 410, Westbury, NY 11590; phone 206-231-3229; email vladimir.ulyanov@faa.gov.

SUPPLEMENTARY INFORMATION:

Comments Invited

The FAA invites you to send any written data, views, or arguments about this final rule. Send your comments to an address listed under ADDRESSES. Include “Docket No. FAA-2024-0033; Project Identifier MCAI-2023-01206-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Vladimir A. Ulyanov, Aviation Safety Engineer, FAA, 1600 Stewart Avenue, Suite 410, Westbury, NY 11590; phone 206-231-3229; email vladimir.ulyanov@faa.gov. Any commentary that the FAA receives which is not specifically designated as CBI will be placed in the public docket for this rulemaking.

Background

EASA, which is the Technical Agent for the Member States of the European Union, has issued EASA AD 2023-0206, dated November 21, 2023 (EASA AD 2023-0206) (also referred to as the MCAI), to correct an unsafe condition for all Airbus SAS Model A330-201, -202, -203, -223, -223F, -243, -243F, -301, -302, -303, -321, -322, -323, -341, -342, -343, -841, and -941 airplanes; and Model A340-541, -542, -642, and -643 airplanes. Model A340-542 and -643 airplanes are not certificated by the FAA and are not included on the U.S. type certificate data sheet; this AD therefore does not include those airplanes in the applicability. The MCAI states temporary loss of the FD and A/THR occurred on an airplane dispatched under the provisions of MMEL item 28-07-02-05, “Inner Tank Fuel Quantity Indication on the Fuel SD page.” Subsequent investigation determined that this behavior is systematic, when an airplane is dispatched under certain MMEL FQI items, because the FQI unavailability invalidates the gross weight and the center-of-gravity computation at the fuel control and monitoring computer (FCMC)-level. To address this unsafe condition, Airbus issued an MMEL update prohibiting required navigation performance—authorization required (RNP-AR) operation for airplanes dispatched under certain MMEL FQI items. This condition, if not corrected, could affect the airplane's capability to follow the desired ground track and vertical path during certain takeoff and approach phases.

The FAA is issuing this AD to address the loss of the autopilot (AP), FD, and A/THR when those systems are required for RNP-AR takeoffs and landings, which could result in failure to maintain safe flight and landing. You may examine the MCAI in the AD docket at regulations.gov under Docket No. FAA-2024-0033.

Related Service Information Under 1 CFR Part 51

EASA AD 2023-0206 specifies procedures for revising the operator's MEL by incorporating the information in MMEL items 28-07-02-05A, 28-07-02-06A, 28-07-02-07A, 28-07-02-08A, and 28-07-02-10A of Airbus A330/340 MMEL Major Event Revision, dated August 23, 2023, for airplanes that have implemented RNP-AR capability by embodying—

• Airbus modification 57729, 200624, 200628, 203441 or 203442 in production; or

• Airbus Service Bulletin A330-34-3262, A330-34-3308, A330-34-3345, A330-34-3378, or A330-34-3409 in service.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this AD after determining that the unsafe condition described previously is likely to exist or develop on other products of the same type design.

Requirements of This AD

This AD requires accomplishing the actions specified in EASA AD 2023-0206 described previously, except for any differences identified as exceptions in the regulatory text of this AD.

Compliance With MEL Revisions

EASA AD 2023-0206 requires operators to implement the instructions of the MMEL update, on the basis of which the applicable MEL of each affected airplane must be amended and thereafter “operate the aeroplane(s) accordingly.” However, this AD does not specifically require that action as it is already required by an FAA regulation. Section 121.628(a)(5) of 14 CFR requires airplanes to be operated under all applicable conditions and limitations contained in the operator's MEL. Therefore, including a requirement in this AD to operate the airplane according to the revised MEL would be redundant and unnecessary.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0206 is incorporated by reference in this AD. This AD requires compliance with EASA AD 2023-0206 in its entirety through that incorporation, except for any differences identified as exceptions in the regulatory text of this AD. Using common terms that are the same as the heading of a particular section in EASA AD 2023-0206 does not mean that operators need comply only with that section. For example, where the AD requirement refers to “all required actions and compliance times,” compliance with this AD requirement is not limited to the section titled “Required Action(s) and Compliance Time(s)” in EASA AD 2023-0206. Service information required by EASA AD 2023-0206 for compliance will be available at regulations.gov under Docket No. FAA-2024-0033 after this AD is published.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the loss of the AP, FD, and A/THR when those systems are required for RNP-AR takeoffs and landings could result in failure to maintain safe flight and landing. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 142 airplanes of U.S. registry. The FAA estimates the following costs to comply with this AD:

Estimated Costs for Required Actions
Labor cost | Parts cost | Cost per product | Cost on U.S. operators
1 work-hour × $85 per hour = $85 | $0 | $85 | $12,070

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-01-10 Airbus SAS: Amendment 39-22661; Docket No. FAA-2024-0033; Project Identifier MCAI-2023-01206-T.

(a) Effective Date

This airworthiness directive (AD) is effective February 6, 2024.

(b) Affected ADs

None.

(c) Applicability

This AD applies to all Airbus SAS airplanes identified in paragraphs (c)(1) and (2) of this AD, certificated in any category.

(1) Model A330-201, -202, -203, -223, -223F, -243, -243F, -301, -302, -303, -321, -322, -323, -341, -342, -343, -841, and -941 airplanes.

(2) Model A340-541 and -642 airplanes.

(d) Subject

Air Transport Association (ATA) of America Code 28, Fuel.

(e) Unsafe Condition

This AD was prompted by a report of temporary loss of the flight director (FD) and autothrottle (A/THR) on an airplane dispatched under the provisions of a master minimum equipment list (MMEL) item for fuel quantity indication. The FAA is issuing this AD to address the loss of the autopilot (AP), FD, and A/THR when those systems are required for navigation performance—authorization required (RNP-AR) takeoffs and landings. The unsafe condition, if not addressed, could result in failure to maintain safe flight and landing.

(f) Compliance

Comply with this AD within the compliance times specified, unless already done.

(g) Requirements

Except as specified in paragraph (h) of this AD: Comply with all required actions and compliance times specified in, and in accordance with, EASA AD 2023-0206, dated November 21, 2023 (EASA AD 2023-0206).

(h) Exceptions to EASA AD 2023-0206

(1) Where EASA AD 2023-0206 refers to its effective date, this AD requires using the effective date of this AD.

(2) Where paragraph (1) of EASA AD 2023-0206 specifies to “implement the instructions of the MMEL update, on basis of which the applicable MEL of each affected aeroplane must be amended,” this AD requires replacing those words with “revise the operator's existing FAA-approved MEL by incorporating the information identified in “The MMEL update” as defined in EASA AD 2023-0206.”

(3) Where paragraph (1) of EASA AD 2023-0206 specifies “and, thereafter, operate the aeroplane(s) accordingly,” this AD does not require that action as it is already required by an existing FAA operating regulation (see 14 CFR 121.628(a)(5)).

(4) Where paragraph (2) of EASA AD 2023-0206 specifies “the instructions of the MMEL update are implemented for that aeroplane,” this AD requires replacing those words with “the operator's existing FAA-approved MEL is revised by incorporating the information identified in “The MMEL update” as defined in EASA AD 2023-0206.”

(5) Where paragraph (2) of EASA AD 2023-0206 specifies implementing the instructions of the MMEL update before next flight after modifying a Group 2 airplane into a Group 1 airplane, this AD requires accomplishing the MEL update within 30 days after the effective date of this AD, or before further flight after accomplishing the modification, whichever occurs later.

(6) This AD does not adopt the “Remarks” section of EASA AD 2023-0206.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(j) Additional Information

For more information about this AD, contact Vladimir A. Ulyanov, Aviation Safety Engineer, FAA, 1600 Stewart Avenue, Suite 410, Westbury, NY 11590; phone 206-231-3229; email vladimir.ulyanov@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0206, dated November 21, 2023.

(ii) [Reserved]

(3) For EASA AD 2023-0206, contact EASA, Konrad-Adenauer-Ufer 3, 50668 Cologne, Germany; phone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on January 10, 2024.
Victor Wicklund,
Deputy Director, Compliance & Airworthiness Division, Aircraft Certification Service.

[FR Doc. 2024-01162 Filed 1-18-24; 11:15 am]

BILLING CODE 4910-13-P